DEPARTMENT OF COMMERCE

International Trade Administration

[A-570-920]

Lightweight Thermal Paper From the People's Republic of China: Rescission of the 2008-2009 Administrative Review

AGENCY: Import Administration, International Trade Administration, Department of Commerce.

EFFECTIVE DATE: March 26, 2010.

FOR FURTHER INFORMATION CONTACT: Frances Veith, AD/CVD Operations, Office 8, Import Administration, International Trade Administration, U.S. Department of Commerce, 14th Street and Constitution Avenue, NW, Washington, DC 20230; telephone: (202) 482-4295.

SUPPLEMENTARY INFORMATION:

Background

On November 2, 2009, the Department of Commerce (“Department”) published a notice of opportunity to request an administrative review of the antidumping duty order on lightweight thermal paper (“LWTP”) from the People's Republic of China (“PRC”). See Antidumping or Countervailing Duty Order, Finding, or Suspended Investigation; Opportunity to Request Administrative Review, 74 FR 56573 (November 2, 2009). The period of review (“POR”) is November 20, 2008, through October 31, 2009. On November 30, 2009, in accordance with 19 CFR 351.213(b), the Department received a timely request from Appleton Papers, Inc. (“petitioner”) to conduct an administrative review of Shanghai Hanhong Paper Co., Ltd. and Hanhong International Limited (collectively “Hanhong”) and Guangdong Guanhao High-Tech Co., Ltd. (“Guanhao”). In this case, there were no other requests for an administrative review by any other party.

Pursuant to this request, the Department published a notice of the initiation of the administrative review of the antidumping duty order on LWTP from the PRC for the POR. See Initiation of Antidumping and Countervailing Duty Administrative Reviews and Request for Revocation in Part, 74 FR 68229 (December 23, 2009).

Rescission of Administrative Review

Pursuant to 19 CFR 351.213(d)(1), the Secretary will rescind an administrative review, in whole or in part, if the party that requested the review withdraws the request within 90 days of the date of publication of the notice of initiation of the requested review. In this case, petitioner timely withdrew its request for a review, and no other interested party requested a review of Hanhong and Guanhao. Therefore, the Department is rescinding the administrative review of the antidumping duty order on LWTP from the PRC covering the period November 20, 2008, through October 31, 2009, in accordance with 19 CFR 351.213(d)(1).

Assessment

The Department will instruct U.S. Customs and Border Protection (“CBP”) to assess antidumping duties on all appropriate entries. Antidumping duties shall be assessed at rates equal to the cash deposit of estimated antidumping duties required at the time of entry, or withdrawal from warehouse, for consumption, in accordance with 19 CFR 351.212(c)(1)(i). The Department intends to issue appropriate assessment instructions directly to CBP 15 days after the publication of this notice in the Federal Register.

Notification to Interested Parties

This notice serves as a final reminder to importers of their responsibility under 19 CFR 351.402(f)(2) to file a certificate regarding the reimbursement of antidumping duties prior to liquidation of the relevant entries during this review period. Pursuant to 19 CFR 351.402(f)(3), failure to comply with this requirement could result in the Secretary's presumption that reimbursement of antidumping duties occurred and the subsequent assessment of doubled antidumping duties.

This notice also serves as a reminder to parties subject to administrative protective order (“APO”) of their responsibility concerning the disposition of proprietary information disclosed under APO, in accordance with 19 CFR 351.305 and as explained in the APO itself. Timely written notification of the return/destruction of APO materials or conversion to judicial protective order is hereby requested. Failure to comply with the regulations and the terms of an APO is a sanctionable violation.

This notice is in accordance with section 777(i)(1) of the Tariff Act of 1930, as amended, and 19 CFR 351.213(d)(4).

Dated: March 19, 2010.
John M. Andersen,
Acting Deputy Assistant Secretary for Antidumping and Countervailing Duty Operations.

[FR Doc. 2010-6798 Filed 3-25-10; 8:45 am]

BILLING CODE 3510-DS-S